DEPARTMENT OF LABOR

Employment and Training Administration

Investigations Regarding Certifications of Eligibility to Apply for Worker Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Assistance, at the address shown below, not later than September 18, 2000.

Interested persons are invited to submit written comments regarding the subject matter of the investigations to the Director, Division of Trade Assistance, at the address shown below, not later than September 18, 2000.

The petitions filed in this case are available for inspection at the Office of the Director, Division of Trade Adjustment Assistance, Employment and Training Administration, U.S. Department of Labor, 200 Constitution Avenue, N.W., Washington, D.C. 20210.

Signed at Washington, D.C. this 21st day of August, 2000.
Edward A. Tomchick,
Director, Division of Trade Adjustment Assistance.

Appendix—Petitions Instituted on 08/21/2000
TA-W | Subject firm (Petitioners) | Location | Date of petition | Product(s)
37,972 | ABC-NACO (Wrks) | Superior, WI | 08/08/2000 | Switches, Platework.
37,973 | General Motors Corp (Comp) | Mesa, AZ | 08/09/2000 | Hot Weather Testing.
37,974 | General Binding Corp (Wrks) | Auburn Hills, MI | 08/08/2000 | Binders for Paper Industry.
37,975 | U.S. Textile Corp (Wrks) | Newland, NC | 07/25/2000 | Pantyhose.
37,976 | S and S Glass Specialties (Wrks) | Wauseon, OH | 08/04/2000 | Tempered or Heat Strengthened Glass.
37,977 | Academy Broadway Corp (Comp) | Pine Knot, KY | 08/04/2000 | Sleeping Bags.
37,978 | Permair Leathers (Wrks) | Salem, MA | 08/04/2000 | Laminated Urethayne.
37,979 | Kirsch, Inc. (UAW) | Sturgis, MI | 08/03/2000 | Drapery Hardware.
37,980 | Fulton Apparel, Inc. (Comp) | South Pittsburg, TN | 07/27/2000 | Knit Shirts, Tops, Shorts.
37,981 | Adirondack Knitting Mills (Comp) | Amsterdam, NY | 08/07/2000 | Unfinished Fabrics.
37,982 | Arnold Palmer Golf Co (Wrks) | Pocahontas, AR | 08/02/2000 | Golf Bags.
37,983 | Penn Machine Co (USWA) | Johnstown, PA | 08/03/2000 | Locomotive Pinions and Gears.
37,984 | Nipp.rs Workshop, Inc. (Comp) | Benton, IL | 08/01/2000 | Small Plastic Toys.
37,985 | Lear Corp. (UAW) | Detroit, MI | 08/02/2000 | Raw Polyurethane Foam Seat Backs.
37,986 | Sumitok Magnetics Co. Inc (Comp) | Bardstown, KY | 08/08/2000 | Permanent Ceramic Magnets.
37,987 | Hobman Corp. (Comp) | Jim Thorpe, PA | 08/10/2000 | Electronic PC Boards.
37,988 | Tyco Electronics (Wrks) | Sanford, ME | 08/14/2000 | Electronic Connectors.
37,989 | Pillowtex, Plant #7 (UNITE) | Salisbury, NC | 08/10/2000 | Ben Sheeting Materials.
37,990 | Telxon Corp. NSC (Comp) | Houston, TX | 08/02/2000 | Handheld Wireless Computer.
37,991 | New Haven Industries (Wrks) | Lock Haven, PA | 08/10/2000 | Ladies' Lingerie.
37,992 | Lund Industries (Wrks) | Anoka, MN | 08/07/2000 | Exterior Fiberglass Truck Accessories.
37,993 | Circuit Systems of Tenn (IUE) | Greeneville, TN | 08/10/2000 | Printed Circuit Boards.
37,994 | Central Point Lumber (Wrks) | Central Point, OR | 08/10/2000 | Fir Studs.
37,995 | Tyco Electronics (Comp) | Boyne City, MI | 08/10/2000 | Terminals for Auto Industry.
37,996 | Consolidated Metco (IAM) | Portland, OR | 08/09/2000 | Aluminum Mold Truck Parts.
37,997 | Louisiana Pacific Corp (Comp) | Hayden Lake, ID | 07/31/2000 | Lumber.
37,998 | Eaton-Vickers (PACE) | Omaha, NE | 08/07/2000 | Hydraulic Piston Pumps and Motors.
37,999 | Savane International Corp (Comp) | El Paso, TX | 08/10/2000 | Men's and Boy's Pants.
38,000 | W.P. Industries (Wrks) | South Gate, CA | 08/08/2000 | Pottery.

[FR Doc. 00-22761 Filed 9-5-00; 8:45 am]

BILLING CODE 4510-30-M